DEPARTMENT OF ENERGY

Federal Energy Regulatory Commission

Combined Notice of Filings #1

Take notice that the Commission received the following electric corporate filings:

Docket Numbers: EC19-112-000.

Applicants: 2018 ESA Project Company, LLC.

Description: Application for Authorization Under Section 203 of the Federal Power Act, et al. of 2018 ESA Project Company, LLC.

Filed Date: 7/8/19.

Accession Number: 20190708-5128.

Comments Due: 5 p.m. ET 7/29/19.

Take notice that the Commission received the following electric rate filings:

Docket Numbers: ER10-1651-004.

Applicants: Golden State Water Company.

Description: Updated Market Power Analysis for the Southwest Region of Golden State Water Company.

Filed Date: 6/28/19.

Accession Number: 20190628-5235.

Comments Due: 5 p.m. ET 8/27/19.

Docket Numbers: ER19-1672-002.

Applicants: Southwest Power Pool, Inc.

Description: Tariff Amendment: Deficiency Response in ER19-1672-1148R25 American Electric Power NITSA and NOA to be effective 4/1/2019.

Filed Date: 7/8/19.

Accession Number: 20190708-5118.

Comments Due: 5 p.m. ET 7/29/19.

Docket Numbers: ER19-1777-000.

Applicants: Midwest Energy, Inc.

Description: Supplement to May 3, 2019 Petition for Temporary Waiver of Midwest Energy, Inc.

Filed Date: 7/8/19.

Accession Number: 20190708-5144.

Comments Due: 5 p.m. ET 7/18/19.

Docket Numbers: ER19-2241-001.

Applicants: Midcontinent Independent System Operator, Inc.

Description: Tariff Amendment: 2019-07-08_Errata to ITC Schedule 33 Blackstart to be effective 8/24/2019.

Filed Date: 7/8/19.

Accession Number: 20190708-5123.

Comments Due: 5 p.m. ET 7/29/19.

Docket Numbers: ER19-2365-000.

Applicants: Mid-Atlantic Interstate Transmission, LLC, PJM Interconnection, L.L.C.

Description: § 205(d) Rate Filing: MAIT submits 4 ECSAs, Service Agreement Nos. 5325, 5328, 5394, and 5396 to be effective 9/7/2019.

Filed Date: 7/9/19.

Accession Number: 20190709-5054.

Comments Due: 5 p.m. ET 7/30/19.

Docket Numbers: ER19-2366-000.

Applicants: American Transmission Systems, Incorporated, PJM Interconnection, L.L.C.

Description: § 205(d) Rate Filing: ATSI submits an ECSA, Service Agreement No. 5326 with Ohio Edison to be effective 9/7/2019.

Filed Date: 7/9/19.

Accession Number: 20190709-5088.

Comments Due: 5 p.m. ET 7/30/19.

Docket Numbers: ER19-2367-000.

Applicants: Dominion Energy South Carolina, Inc.

Description: § 205(d) Rate Filing: VCS Transmission Agreement Between DESC and SCPSA to be effective 9/8/2019.

Filed Date: 7/9/19.

Accession Number: 20190709-5093.

Comments Due: 5 p.m. ET 7/30/19.

Docket Numbers: ER19-2368-000.

Applicants: Midcontinent Independent System Operator, Inc. Ameren Illinois Company.

Description: § 205(d) Rate Filing: 2019-07-09_SA 3028 Ameren IL-Prairie Power Project#16 Monmouth to be effective 7/10/2019.

Filed Date: 7/9/19.

Accession Number: 20190709-5095.

Comments Due: 5 p.m. ET 7/30/19.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2019.
Nathaniel J. Davis, Sr.,
Deputy Secretary.

[FR Doc. 2019-14924 Filed 7-12-19; 8:45 am]

BILLING CODE 6717-01-P